DEPARTMENT OF HEALTH AND HUMAN SERVICES

Centers for Disease Control and Prevention

[30Day-11-0214]

Agency Forms Undergoing Paperwork Reduction Act Review

The Centers for Disease Control and Prevention (CDC) publishes a list of information collection requests under review by the Office of Management and Budget (OMB) in compliance with the requirement of Section 3506(c)(2)(A) of the Paperwork Reduction Act of 1995. To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Health Interview Survey (NHIS), (OMB No. 0920-0214, Expiration 01/31/2013)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States.

The annual National Health Interview Survey is a major source of general statistics on the health of the U.S. population and has been in the field continuously since 1957. Clearance is sought for three years, to collect data for 2011, 2012, 2013, and 2014 and to increase the sample size for 2011, 2012, and 2013. This voluntary household-based survey collects demographic and health-related information on a nationally representative sample of persons and households throughout the country. Information is collected using computer assisted personal interviews (CAPI). A core set of data is collected each year while sponsored supplements vary from year to year. For 2011, the sample size is proposed to increase from an estimated 35,000 households to an estimated 40,000 households to provide more state-level estimates. The sample size is expected to be further increased to approximately 67,000 households for 2012 and 2013.

In accordance with the 1995 initiative to increase the integration of surveys within the Department of Health and Human Services, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives.

There is no cost to the respondents other than their time. As shown below, with the increased sample size, the estimated overall average annual burden for the 2011, 2012, and 2013 surveys is 55,343 hours.

Annualized Burden Table
Questionnaire (respondent) | Number of respondents | Number of responses per respondent | Average burden per respondent in hours
Screener Questionnaire | 10,000 | 1 | 5/60
Family Core (adult family member) | 58,000 | 1 | 23/60
Adult Core (sample adult) | 44,250 | 1 | 14/60
Child Core (adult family member) | 17,550 | 1 | 9/60
Child Record Check (medical provider) | 2,120 | 1 | 5/60
Teen Record Check (medical provider) | 8,450 | 1 | 5/60
Child Immunization Provider (adult family member) | 10,570 | 1 | 4/60
Supplements (adult family Member) | 58,000 | 1 | 18/60
Reinterview Survey | 4,000 | 1 | 5/60

Dated: July 18, 2011.
Daniel Holcomb,
Reports Clearance Officer, Centers for Disease Control and Prevention.

[FR Doc. 2011-18701 Filed 7-22-11; 8:45 am]

BILLING CODE 4163-18-P